DEPARTMENT OF HEALTH AND HUMAN SERVICES

Food and Drug Administration

[Docket No. FDA-2010-N-0620]

The National Antimicrobial Resistance Monitoring System Strategic Plan 2011-2015; Request for Comments; Extension of Comment Period

AGENCY: Food and Drug Administration, HHS.

ACTION: Notice; request for comments; extension of comment period.

SUMMARY: The Food and Drug Administration (FDA) is extending the comment period for the notice that appeared in the Federal Register of January 24, 2011 (76 FR 4120). In the notice, FDA requested comments on a document for the National Antimicrobial Resistance Monitoring System (NARMS) entitled “NARMS Strategic Plan 2011-2015.” The Agency is taking this action in response to requests for an extension to allow interested persons additional time to submit comments. Based on requests received, additional information is being placed in the docket related to the development of the Strategic Plan. This information can also be viewed at the Web sites listed in section III of this document.

DATES: Submit either electronic or written comments by May 24, 2011.

ADDRESSES: Submit electronic comments to http://www.regulations.gov. Submit written comments to the Division of Dockets Management (HFA-305), Food and Drug Administration, 5630 Fishers Lane, rm. 1061, Rockville, MD 20852.

FOR FURTHER INFORMATION CONTACT: Patrick McDermott, Center for Veterinary Medicine (HFV-530), Food and Drug Administration, 8401 Muirkirk Rd., Laurel, MD 20708, 301-210-4213, e-mail: patrick.mcdermott@fda.hhs.gov.

SUPPLEMENTARY INFORMATION:

I. Background

In the Federal Register of January 24, 2011 (76 FR 4120), FDA published a notice with a 60-day comment period to request comments from stakeholders on strategies to address a document for the NARMS program entitled “NARMS Strategic Plan 2011-2015.” The notice expressed FDA's interest in receiving comments on the goals and objectives in the Strategic Plan and whether the goals and objectives meet the recommendations of the subcommittee.

The Agency has received requests for a 60-day extension of the comment period along with request for background material on the development of the “NARMS Strategic Plan 2011-2015.” The requests conveyed concern that the current 60-day comment period does not allow respondents sufficient time to address fully the many important issues FDA raised in the notice.

FDA has considered the requests and is extending the comment period for the notice for 60 days, until May 24, 2011. The Agency believes that a 60-day extension allows adequate time for interested persons to submit comments without significantly delaying the Agency's consideration of these important issues.

II. Request for Comments

Interested persons may submit to the Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

III. Electronic Access

Persons with access to the Internet may obtain documents at either http://www.fda.gov/AnimalVeterinary/SafetyHealth/AntimicrobialResistance/NationalAntimicrobialResistanceMonitoringSystem/default.htm, http://www.fda.gov/AnimalVeterinary/SafetyHealth/AntimicrobialResistance/NationalAntimicrobialResistanceMonitoringSystem/ucm062630.htm, http://www.fda.gov/AnimalVeterinary/SafetyHealth/AntimicrobialResistance/NationalAntimicrobialResistanceMonitoringSystem/ucm059135.htm, http://www.fda.gov/ohrms/dockets/ac/07/briefing/2007-4329b_02_06_NARMS%20Review%20Update.pdf, or http://www.regulations.gov.

Dated: March 21, 2011.
Leslie Kux,
Acting Assistant Commissioner for Policy.

[FR Doc. 2011-7068 Filed 3-24-11; 8:45 am]

BILLING CODE 4160-01-P